DEPARTMENT OF THE INTERIOR

National Park Service

Notice of Boundary Revision: Piscataway Park

AGENCY: National Park Service, Interior.

ACTION: Notice of boundary revision.

SUMMARY: Notice is hereby given that the National Park Service (NPS) is revising the boundary of Piscataway Park to include two additional tracts of land.

FOR FURTHER INFORMATION CONTACT: Chief, Land Resources Program Center, National Park Service, National Capital Region, 1100 Ohio Drives, SW., Washington, D.C. 20242, (202) 619-7034; or Superintendent, National Capital Parks-East, 1900 Anacostia Drive, SW., Washington, D.C. 20020, (202) 690-5185.

SUPPLEMENTARY INFORMATION: Public Law 87-362 enacted October 4, 1961, authorizes the Secretary of the Interior to acquire lands and interests therein for Piscataway Park. Section 7(c)(ii) of the Land and Water Conservation Fund Act, as amended by Section 814(b) of Public Law 104-333, authorizes minor boundary revisions of areas within the National Park System. Such boundary revisions may be made when necessary, after advising the appropriate Congressional Committees, and following publication of a revised boundary map, drawing or other boundary description in the Federal Register. In order to preserve lands, which comprise the principal viewshed from Mount Vernon and Fort Washington in a manner that will ensure, insofar as practicable, the natural beauty of such land as it existed at the construction and active use of Mount Vernon Mansion and Fort Washington, it is necessary to revise the existing boundary of Piscataway Park to include two additional tracts of land comprising approximately 141 acres. The owners of Tract Number 01-264, a 40-acre parcel of unimproved land, have offered to donate the fee-simple interest in the property to NPS. A scenic easement interest in Tract Number 02-219, a 101-acre parcel of unimproved land, will also be acquired by NPS as a donation.

Notice is hereby given that the boundary of Piscataway Park is hereby revised to include two additional tracts of land as more particularly described as follows:

Tract Number 01-264, consisting of 40 acres of unimproved land located within the Fifth Election District of Prince Georges County, Maryland, and identified as part of Parcel Number 8 on Prince Georges County, Maryland Tax Map 141.

Tract Number 02-219, consisting of 101 acres of unimproved land located within the Seventh Election District of Charles County, Maryland, and identified as Parcel Number 126 on Charles County, Maryland Tax Map 1.

The above referenced properties are also depicted on Piscataway Park land status maps numbered 836/80036 which are available for inspection in the office of the Land Resources Program Center, National Park Service, National Capital Region, 1100 Ohio Drive, SW., Washington, D.C. 20242.

Dated: June 14, 2001.
Terry R. Carlstrom,
Regional Director, National Park Service, National Capital Region.

[FR Doc. 01-16715 Filed 7-2-01; 8:45 am]

BILLING CODE 4310-70-M